ENVIRONMENTAL PROTECTION AGENCY

[FRL-9177-6]

Total Coliform Rule Revisions—Notice of Public Information Meetings

AGENCY: Environmental Protection Agency (EPA).

ACTION: Notice.

SUMMARY: The Environmental Protection Agency (EPA) is hosting public information meetings on the proposed Revised Total Coliform Rule (RTCR). The proposed RTCR is a proposed revision to the current Total Coliform Rule (TCR) which was promulgated in 1989. The proposed RTCR was published in the Federal Register on July 14, 2010. During the public information meetings, EPA will discuss the major provisions of the current TCR, the history of the development of the proposed RTCR, the core elements of the proposed RTCR, the comparison between the current TCR and the proposed RTCR, and specific areas where EPA is requesting comment. Additional topics that will be discussed include the cost and benefit information of the proposed rule and the planned guidance manuals that will be developed to support the implementation of the final rule.

Date and Location: The first public information meeting will be held on Tuesday, August 3, 2010, 8:30 a.m. to 2:30 p.m., Eastern Time (EDT), at the EPA East Building, Room 1153, 1201 Constitution Ave., NW., Washington, DC 20460. The second meeting will be held on Friday, August 6, 2010, 8:30 a.m. to 2:30 p.m., Central Standard Time (CST), at the Ralph Metcalfe Federal Building, Lake Michigan Room, 77 West Jackson Blvd., Chicago, IL 60604. EPA plans to hold an additional public information meeting in San Francisco and one webcast.

FOR FURTHER INFORMATION CONTACT: To register for the first meeting in Washington, DC, contact Cesar Cordero at (202) 564-3716 or by e-mail at cordero.cesar@epa.gov. Registration for the second meeting in Chicago will be on-site. For technical information, contact Sean Conley (conley.sean@epa.gov, (202) 564-1781, Standards and Risk Management Division, Office of Ground Water and Drinking Water (MC 4607M)), Environmental Protection Agency, 1200 Pennsylvania Avenue, NW., Washington, DC 20460). For a draft agenda for the first two meetings and the most current information about the additional public information meeting and webcast, please visit http://www.epa.gov/safewater/disinfection/tcr/regulation_revisions.html. A copy of the proposed RTCR is also available from this Web site.

SUPPLEMENTARY INFORMATION: Special Accommodations: For information on access or accommodations for individuals with disabilities, please contact Cesar Cordero at (202) 564-3716 or by e-mail at cordero.cesar@epa.gov. Please allow at least 3 days prior to the meeting to give EPA time to process your request.

Dated: July 15, 2010.
Cynthia C. Dougherty,
Director, Office of Ground Water and Drinking Water.

[FR Doc. 2010-17795 Filed 7-20-10; 8:45 am]

BILLING CODE 6560-50-P